FEDERAL ELECTION COMMISSION

[Notice 2004-1]

Filing Dates for the Kentucky Special Election in the 6th Congressional District

AGENCY: Federal Election Commission.

ACTION: Notice of filing dates for special election.

SUMMARY: Kentucky has scheduled a special general election on February 17, 2004, to fill the U.S. House of Representatives seat in the Sixth Congressional District vacated by Representative Ernie Fletcher.

Committees participating in the Kentucky Special General Election are required to file pre- and post-election reports.

FOR FURTHER INFORMATION CONTACT: Mr. Kevin R. Salley, Information Division, 999 E Street, NW., Washington, DC 20463; Telephone: (202) 694-1100; Toll Free (800) 424-9530.

SUPPLEMENTARY INFORMATION:

Principal Campaign Committees

All principal campaign committees of candidates participating in the Kentucky Special General Election shall file a 12-day Pre-General Report on February 5, 2004; and a 30-day Post-General Report on March 18, 2004. (See chart below for the closing date for each report).

Unauthorized Committees (PACs and Party Committees)

Political committees filing on a semiannual basis in 2003 are subject to special election reporting if they make previously undisclosed contributions or expenditures in connection with the Kentucky Special General Election by the close of books for the applicable report(s). (See chart below for the closing date for each report).

Since disclosing financial activity from two different calendar years on one report would conflict with the calendar year aggregation requirements stated in the Commission's disclosure rules, unauthorized committees that trigger the filing of the Pre-General Report will be required to file this report on two separate forms. One form to cover 2003 activity, labeled as the Year-End Report; and the other form to cover only 2004 activity, labeled as the Pre-General Report. Both forms must be filed by February 5, 2004.

Committees filing monthly that support candidates in the Kentucky Special General Election should continue to file according to the monthly reporting schedule.

Disclosure of Electioneering Communications (Individuals and Other Unregistered Organizations)

As required by the Bipartisan Campaign Reform Act of 2002, the Federal Election Commission promulgated new electioneering communications rules governing television and radio communications that refer to a clearly identified Federal candidate and are distributed within 60 days prior to a special general election. 11 CFR 100.29. The statute and regulations require, among other things, that individuals and other groups not registered with the FEC who make electioneering communications costing more than $10,000 in the aggregate in a calendar year disclose that activity to the Commission within 24 hours of the distribution of the communication. See 11 CFR 104.20.

The 60-day electioneering communications period in connection with the Kentucky Special General runs from December 19, 2003, through February 17, 2004.

Calendar of Reporting Dates for Kentucky Special Election Committees Involved in the Special General (02/17/04) Must File:
Report | Close of books¹ | Reg./Cert. mailing date ² | Filing date
Year-End | —Waived—
Pre-General | 01/28/04 | 02/02/04 | 02/05/04
Post-General | 03/08/04 | 03/18/04 | 03/18/04
¹ The period begins with the close of books of the last report filed by the committee. If the committee has filed no previous reports, the period begins with the date of the committee's first activity.
² Pre- and Post-General Reports sent registered or certified mail must be postmarked by the mailing date; otherwise, they must be received by the filing date. Committees should keep the mailing receipt with its postmark as proof of filing.

Dated: January 5, 2004.
Bradley A. Smith,
Chairman, Federal Election Commission.

[FR Doc. 04-395 Filed 1-8-04; 8:45 am]

BILLING CODE 6715-01-P